FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 010168-019.

Title: New Caribbean Service Rate Agreement.

Parties: CMA CGM, S.A.; P&O Nedlloyd B.V./P&O Nedlloyd Limited (acting as a single party); Hapag-Lloyd Container Linie GmbH; Hamburg-Südamerikanische Dampfschifffahrts-Gesellschaft KG; and Compania Sud Americana de Vapores, S.A.

Filing Party: Wayne R. Rohde, Esq., Sher & Blackwell, 1850 M Street, NW., Suite 900, Washington, DC 20036.

Synopsis: The amendment deletes the Virgin Islands from the geographic scope of the agreement.

Agreement No.: 010977-056.

Title: Hispaniola Discussion Agreement.

Parties: Crowley Liner Services; Seaboard Marine; Tropical Shipping and Construction Co. Ltd.; and Frontier Liner Services.

Filing Party: Wayne R. Rohde, Esq., Sher & Blackwell, 1850 M Street, NW., Suite 900, Washington, DC 20036.

Synopsis: The amendment clarifies the authority of the parties to communicate directly with one another and to hold meetings of less than the entire membership. It also adds a provision dealing with liability for civil penalties.

Agreement No.: 011905.

Title: K-Line/CSAV Car Carrier Agreement.

Parties: Compania Sud-Americana de Vapores (“CSAV”) and Kawasaki Kisen Kaisha (“K-Line”).

Filing Party: Walter H. Lion, Esq., McLaughlin & Stern LLP, 260 Madison Avenue, New York, NY 10016.

Synopsis: The proposed agreement permits the parties to exchange space on their respective services for the carriage of automobiles and other vehicles between South America and the U.S. Atlantic Coast.

By Order of the Federal Maritime Commission.
Dated: February 25, 2005.
Bryant L. VanBrakle,
Secretary.

[FR Doc. 05-4025 Filed 3-1-05; 8:45 am]

BILLING CODE 6730-01-P